DEPARTMENT OF COMMERCE

Census Bureau

Agency Information Collection Activities; Submission to the Office of Management and Budget (OMB) for Review and Approval; Comment Request; Annual Business Survey

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on September 2, 2025, during a 60-day comment period. This notice allows for an additional 30 days for public comments.

Agency: U.S. Census Bureau, Department of Commerce.

Title: Annual Business Survey.

OMB Control Number: 0607-1004.

Form Number(s): ABS-1.

Type of Request: Regular submission, Request for a Revision of a Currently Approved Collection.

Number of Respondents: 230,000.

Average Hours per Response: 1 hour and 17 minutes.

Burden Hours: 295,858.

Needs and Uses: The Annual Business Survey (ABS) measures business demographics, research and development (R&D), innovation, and critical and emerging technologies among businesses in the United States. The ABS is a joint statistical project between the National Center for Science and Engineering Statistics (NCSES) within the National Science Foundation (NSF) and the Census Bureau.

The ABS combines Census Bureau firm-level collections to reduce respondent burden, increase data quality, and reduce operational costs. The ABS is designed to be adaptive, allowing content to be rotated on and off the survey based on topics of relevance.

Content previously collected on the Business Enterprise Research and Development (BERD) Survey will now be collected as part of the Annual Business Survey. The BERD survey will no longer be fielded independently. Integrating the survey instruments necessitated changes to the questions which were then tested with the target populations. The Census Bureau and NCSES worked collaboratively to determine these necessary changes.

R&D data collected from for-profit businesses and nonprofit organizations account for nearly 75 percent of the total U.S. R&D expenditures each year. A consistent R&D information base is essential to government officials formulating public policy, industry personnel involved in corporate planning, and members of the academic community conducting research.

Prior iterations of the ABS used the collection year as part of the survey name. Moving forward, and to be discernible from the past ABS, the survey will omit the mention of the collection year and use the data reference year in all collection materials, informational documentation, and publication tables. As a result, the data collection that starts in May of 2026 will be referred to as the ABS Reference Year 2025.

Statistics from the ABS will be used by government program officials, industry organization leaders, economic and social analysts, business entrepreneurs, and domestic and foreign researchers in business, government and academia.

Frequency: Annually.

Respondent's Obligation: Mandatory.

Legal Authority: The survey is conducted under the authority of Title 13, United States Code, Sections 8(b), 131, and 182; Title 42, United States Code, Sections 1861-76 (National Science Foundation Act of 1950, as amended); and Section 505 within the America COMPETES Reauthorization Act of 2010. Sections 224 and 225 of Title 13, United States Code, require a response from sampled firms.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1004.

Sheleen Dumas,
Departmental PRA Compliance Officer, Office of the Under Secretary for Economic Affairs, Commerce Department.

[FR Doc. 2026-02453 Filed 2-5-26; 8:45 am]

BILLING CODE 3510-07-P